DEPARTMENT OF DEFENSE

Office of the Secretary

Meeting of the Defense Finance and Accounting Service Board of Advisers

AGENCY: Department of Defense, Office of the Under Secretary of Defense (Comptroller).

ACTION: Notice of meeting.

SUMMARY: This notice sets forth the schedule and summary agenda for the third meeting of the Defense Finance and Accounting Service (DFAS) Board of Advisers. The Deputy Secretary of Defense chartered the Board on October 4, 2000, to provide advice and recommendations to the Secretary of Defense and Deputy Secretary of Defense regarding the mission of DFAS as it transforms its financial management operations, processes, and systems. The Board's charter was renewed on October 4, 2002. The meeting will be open to the public. Notice of this meeting is required under the Federal Advisory Committee Act.

DATES: Thursday, June 19, 2003.

ADDRESSES: Double Tree Hotel, Crystal City—National Airport, Salon A, 300 Army Navy Drive, Arlington, VA 22202.

FOR FURTHER INFORMATION CONTACT: Beverly A. Lemon, Corporate Planning, DFAS, Crystal Mall 3 (room 206), 1931 Jefferson Davis Highway, Arlington, VA 22240. Telephone (703) 607-3839.

SUPPLEMENTARY INFORMATION:

Proposed Schedule and Agenda

The Defense Finance and Accounting Service Board of Advisors will meet in open session from 2 p.m. to 4 p.m. on June 19, 2003. The meeting will include briefings and discussions on the State of DFAS, the DFAS Transformation, and DFAS Benchmarking results. Public seating is limited, and is available on a first-come first-served basis.

Dated: May 21, 2003.
Patricia L. Toppings,
Alternate OSD Federal Register Liaison Officer, Department of Defense.

[FR Doc. 03-13229 Filed 5-27-03; 8:45 am]

BILLING CODE 5001-01-M